DEPARTMENT OF THE INTERIOR

Fish and Wildlife Service

[FWS-R5-R-2012-N282; BAC-4311-K9-S3]

Sunkhaze Meadows National Wildlife Refuge and Carlton Pond Waterfowl Production Area, Penobscot, Kennebec, and Waldo Counties, ME; Draft Comprehensive Conservation Plan and Environmental Assessment

AGENCY: Fish and Wildlife Service, Interior.

ACTION: Notice of availability; request for comments.

SUMMARY: We, the U.S. Fish and Wildlife Service (we, the Service), announce the availability of a draft comprehensive conservation plan and environmental assessment (CCP and EA) for Sunkhaze Meadows National Wildlife Refuge (NWR) and Carlton Pond Waterfowl Production Area (WPA), located in Penobscot, Kennebec, and Waldo Counties, Maine, for public review and comment. The draft CCP and EA describes our proposal for managing the refuge and WPA for the next 15 years.

Also available for public review and comment are the draft findings of appropriateness and draft compatibility determinations for uses to be allowed upon initial completion of the plan, if alternative B is selected. These are included as appendix B in the draft CCP and EA.

DATES: To ensure consideration, please send your comments no later than May 31, 2013. We will announce upcoming public meetings in local news media, via our project mailing list, and on our regional planning Web site: http://www.fws.gov/northeast/planning/Sunkhaze%20Meadows/ccphome.html.

ADDRESSES: You may submit comments or requests for copies or more information by any of the following methods. You may request hard copies or a CD-ROM of the documents.

Email: northeastplanning@fws.gov. Please include “Sunkhaze Meadows NWR and Carlton Pond WPA Draft CCP” in the subject line of the message.

Fax: Attention: Lia McLaughlin, 413-253-8468.

U.S. Mail: Lia McLaughlin, Natural Resource Planner, U.S. Fish and Wildlife Service, 300 Westgate Center Drive, Hadley, MA 01035.

In-Person Drop-off, Viewing, or Pickup: Call 207-594-0600 to make an appointment (necessary for view/pickup only) during regular business hours at Maine Coastal Islands NWR, 9 Water Street, Rockland, ME 04841. For more information on locations for viewing or obtaining documents, see “Public Availability of Documents” under SUPPLEMENTARY INFORMATION.

FOR FURTHER INFORMATION CONTACT: Beth Goettel, Refuge Manager, 207-594-0600 (phone), or Lia McLaughlin, Planning Team Leader, 413-253-8575 (phone); northeastplanning@fws.gov (email).

SUPPLEMENTARY INFORMATION:

Introduction

With this notice, we continue the CCP process for Sunkhaze Meadows NWR and Carlton Pond WPA. We started this process through a notice in the Federal Register (76 FR 14984; March 18, 2011).

Currently, Sunkhaze Meadows NWR is comprised of three units: the Sunkhaze Meadows Unit, the Benton Unit, and the Sandy Stream Unit. The Sunkhaze Meadows Unit is the largest of the three, at 11,484 acres, located in the town of Milford in Penobscot County. The Benton Unit is a 334-acre former dairy farm in the town of Benton in Kennebec County. The Sandy Stream Unit is a 58-acre parcel in the town of Unity in Waldo County. Sunkhaze Meadows NWR was established in 1988 to preserve the Sunkhaze Meadows peat bog (now the Sunkhaze Meadows Unit) and to ensure public access to this unique environment. Sunkhaze Meadows NWR includes more than 3,450 acres of freshwater wetland-peatland that provides breeding and migrating habitat for waterfowl and other wetland species.

Carlton Pond WPA is a 1,068-acre artificial impoundment located in the town of Troy in Waldo County. The area was acquired by the Service in 1966 to protect the waterfowl and other wildlife associated with this area in central Maine. Carlton Pond WPA has historically provided good nesting habitat for waterfowl and other birds, and is one of the few areas in Maine that provides nesting habitat for the black tern, which is listed as endangered by the State. Many bird species that use Carlton Pond WPA have been listed by the Partners In Flight organization as species that are declining.

Sunkhaze NWR and Carlton Pond WPA are currently administered by staff from Maine Coastal Islands NWR. Both areas offer an abundance of wildlife observation and photography opportunities. Partners offer limited environmental education and interpretation programs. Visitors to the refuge and WPA also participate in outdoor recreation activities such as hiking, snowmobiling, hunting, and fishing.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We started pre-planning for the Sunkhaze Meadows NWR and Carlton Pond WPA CCP on January 4, 2011. In March 2011, we published a notice of intent in the Federal Register, a press release, and a newsletter, all announcing our intent to prepare a CCP for the refuge and WPA. In March and April 2011, we had a formal public scoping period. The purpose of the public scoping period was to solicit comments from the community and other interested parties on the issues and impacts that should be evaluated in the draft CCP and EA. To help solicit public comments, we held two public meetings at the Milford Town Hall and one public meeting at Unity College during the formal public scoping period. Throughout the rest of the planning process, we have conducted additional outreach by holding an additional public meeting on potential wilderness designation on February 9, 2012, and by participating in community meetings, events, and other public forums. In addition to the initial newsletter, we have published three newsletters updating the public on our progress with the CCP. We received comments on topics such as the potential effects of climate change, improving biological connectivity, forest management, potential wilderness designation, staffing needs, expanding partnerships, trail maintenance, and public uses of the refuge and WPA. We have considered and evaluated all of the comments we received and addressed them in various ways in the alternatives presented in the draft CCP and EA.

CCP Alternatives We Are Considering

During the public scoping process, we, the Maine Department of Inland Fisheries and Wildlife, other governmental partners, and the public raised several issues. To address these issues, we developed and evaluated three alternatives in the draft CCP and EA. Here we present a brief summary of each of the alternatives; a full description of each alternative is in the draft CCP and EA. All alternatives include measures to control invasive species, monitor and abate diseases affecting wildlife and plant health, and protect cultural resources. In addition, we have made the preliminary determination that Sunkhaze Stream and tributaries within the refuge boundary are eligible for Wild and Scenic River designation. Under all alternatives we would complete the suitability study to determine if the stream and its tributaries are suitable for this designation under the Wild and Scenic Rivers Act. Carlton Pond WPA would also continue to be managed primarily to benefit the State-listed black tern under all alternatives. There are also several actions that are common to both alternatives B and C. These include establishing climate change monitoring, expanding partnerships, and expanding cultural resource protection and interpretation.

Alternative A (Current Management)

Alternative A (current management) satisfies the National Environmental Policy Act (40 CFR 1506.6(b)) requirement of a “No Action” alternative, which we define as “continuing current management.” It describes our existing management priorities and activities, and serves as a baseline for comparing and contrasting alternatives B and C. It would maintain our present levels of approved refuge and WPA staffing and the biological and visitor programs now in place. We would continue to focus on preserving the freshwater wetland-peatland complex on the Sunkhaze Meadows Unit, which provides habitat for breeding waterfowl. We would also continue to preserve the open water and emergent marsh habitat at Carlton Pond WPA, the grassland habitat at the Benton Unit, and the shrubland and riparian habitat at the Sandy Stream Unit. Public use activities such as wildlife observation, photography, hiking, snowmobiling, and hunting would continue to be allowed. Our environmental education program would continue to allow visitor access to refuge units and the WPA for environmental education purposes and conducting interpretation programs.

Alternative B (Increased Habitat Enhancement and Improved Visitor Services)

This alternative is the Service-preferred alternative. It combines the actions we believe would most effectively achieve the refuge's and WPA's purposes, vision, and goals, and respond to the issues raised during the scoping period. Under alternative B, we would focus on the preservation of the peatland-wetland complex and mature forest within the Sunkhaze Meadow Unit. We would largely maintain existing forest and grassland habitat at the Benton Unit; however, we would convert about 22 acres of forest habitat to grasslands if feasible. We would expand the riparian forest at the Sandy Stream Unit to protect water quality; we would continue to maintain the rest as shrubland habitat.

We would expand and improve our visitor services programs by providing some Service-led environmental education and interpretation programs. We would also work with partners to offer more educational and interpretive opportunities. We would continue to offer hunting and fishing opportunities as well as allowing other existing uses of the refuge units such as snowmobiling. We would maintain the refuge's most popular walking trails at the Sunkhaze Meadows Unit, including creating some small connector trails. We would stop maintaining two of the unit's less-used trails. We would also create a small connector trail at the Benton Unit, develop new interpretive materials for all of the units and the WPA, and develop new interpretive panels for the Benton Unit. Refuge staff would update existing trail signs and interpretive panels.

Alternative C (Intensive Habitat Management and Increased Public Use)

Under alternative C, we would continue to focus on the preservation of the peatland-wetland complex at the Sunkhaze Meadows Unit. However, in contrast to alternatives A and B, this alternative includes shifting management of some mature forest and grasslands to shrubland and young forest habitat within the Sunkhaze Meadow Unit and the Benton Unit to benefit species that rely on shrubland and young forest habitat. Management of the Sandy Stream Unit and Carlton Pond WPA would be similar to alternative B. Under alternative C, we would also work closely with partners to increase and enhance public use activities, such as expanding the trails at the Benton Unit and providing more environmental education and interpretation programming.

Public Availability of Documents

In addition to any methods in ADDRESSES, you can view or obtain documents at the following locations:

• Our Web site: http://www.fws.gov/northeast/planning/Sunkhaze%20Meadows/ccphome.html Public Libraries: The Old Town Public Library, located at 46 Middle Street, Old Town, ME 04468, and the DorothyWebb Quimby Library, located at Unity College, 90 Quaker Hill Road, Unity, ME 04988, during regular library hours.

Submitting Comments/Issues for Comment

We are seeking substantive comments, particularly on the following issues:

• Public uses of the refuge and WPA; and

• Potential for future wild and scenic river designation at the Sunkhaze Meadows Unit.

We consider comments substantive if they:

• Question, with reasonable basis, the accuracy of the information in the document.

• Question, with reasonable basis, the adequacy of the EA.

• Present reasonable alternatives other than those presented in the EA.

• Provide new or additional information relevant to the EA.

Next Steps

After this comment period ends, we will analyze the comments and address them in the form of a final CCP and finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: March 27, 2013.
Deborah Rocque,
Acting Regional Director, Northeast Region.

[FR Doc. 2013-09486 Filed 4-22-13; 8:45 am]

BILLING CODE 4310-55-P